DEPARTMENT OF ENERGY

Federal Energy Regulatory Commission

[Project No. P-400-051]

Public Service Company of Colorado; Notice of Application Tendered for Filing With the Commission and Establishing Procedural Schedule for Licensing and Deadline for Submission of Final Amendments

July 8, 2008.

Take notice that the following hydroelectric application has been filed with the Commission and is available for public inspection.

a. Type of Application: New Major License.

b. Project No.: P-400-051.

c. Date Filed: June 26, 2008.

d. Applicant: Public Service Company of Colorado.

e. Name of Project: Ames Hydroelectric Project.

f. Location: The existing project is located on Lake Fork, Howard Fork, and South Fork of the San Miguel River, in San Miguel County, about 6 miles north of Telluride, Colorado. The Ames Project occupies 99 acres of the Uncompahgre National Forest.

g. Filed Pursuant to: Federal Power Act 16 U.S.C. 791(a)-825(r)

h. Applicant Contact: Randy Rhodes, Public Service Company of Colorado, 4653 Table Mountain Drive, Golden Colorado 80403; telephone (720) 497-2123.

i. FERC Contact: David Turner (202) 502-6091 or via e-mail at david.turner@ferc.gov.

j. This application is not ready for environmental analysis at this time.

k. Project Description: The existing project uses water that originates in two separate subbasins (Lake Fork and Howard's Fork) of the South Fork San Miguel River. The existing project, from upstream to downstream along Lake Fork and Howard's Fork, respectively, consists of the following: (1) A 44-acre reservoir (Hope Lake) that has 2,000 acre-feet of active storage capacity at a normal maximum water surface elevation of 11,910 feet; (2) a 150-foot-long, 20-foot high rock-filled, timber dam (Hope Lake dam), with a 816-foot-long, 5-foot-wide, and 6-foot-high rock tunnel that releases water from Hope Lake to Lake Fork Creek; (3) a 138-acre reservoir (Trout Lake) with 2,500 acre-feet of active storage capacity at a normal maximum water surface elevation of 9,700 feet; (4) a 570-foot-long, 30-foot-high earth-filled dam (Trout Lake dam) with a 42-inch-diameter, concrete encased steel pipe outlet that extends through the embankment; (5) a 12,650-foot-long, 42-inch to 26-inch-diameter steel pipe penstock that conveys water from Trout Lake to the Ames powerhouse; (6) a 260-foot-long, 6-foot-high earth-filled and timber crib diversion dam on the Howards Fork, with a concrete inlet structure, which diverts water from a sluiceway constructed through the embankment via a manually-operated 9-foot-wide steel slide gate at the downstream end of the sluiceway; (7) a 4,500-foot-long, 36-inch-diameter welded steel penstock; (8) a 2,000-foot-long, 18-inch-diameter steel penstock; (9) the 44-foot-long, 54-foot-wide, stone masonry Ames powerhouse that contains one 3.6 megawatt (MW) generating unit; and (10) appurtenant facilities. The project is operated both as a base-load plant and a peaking plant depending on the time of the year; the applicant does not propose any changes to project operations. The applicant is proposing new recreation facilities at Trout Lake, along with additions and deletions to the project boundary due to new land surveys and easements

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item (h) above.

m. You may also register online at http://www.ferc.gov/esubscribenow.htm to be notified via e-mail of new filings and issuances related to this or other pending projects. For assistance, contact FERC Online Support.

n. Procedural Schedule: The application will be processed according to the following Hydro Licensing Schedule. Revisions to the schedule may be made as appropriate. For example, issuance of the Ready for Environmental Analysis Notice is based on the assumption that there will be no additional information.

Milestone | Date
Application Deficiency Determination Letter and Issuance of Additional Information Requests (AIRs) | July 2008.
Notice of Acceptance/Notice of Ready for Environmental Analysis | August 2008.
Filing of Interventions, Recommendations, Terms and Conditions, and Fishway Prescriptions | October 2008.
Reply Comments Due | December 2008.
Issuance of Draft EA | January 2009.
Comments on Draft EA Due | February 2009.
Filing of Modified Terms and Conditions | April 2009.
Issuance of Final EA | July 2009.

o. Final amendments to the application must be filed with the Commission no later than 30 days from the issuance date of the notice of ready for environmental analysis.

Kimberly D. Bose,
Secretary.

[FR Doc. E8-16047 Filed 7-14-08; 8:45 am]

BILLING CODE 6717-01-P